DEPARTMENT OF ENERGY

Office of Fossil Energy

[FE Docket No. 00-16-LNG, et al.]

Shell Na LNG, INC. (Formerly Coral LNG, Inc.), et al.; Orders Granting, Amending, and Terminating Authority to Import and Export Natural Gas

AGENCY: Office of Fossil Energy, DOE.

ACTION: Notice of orders.

SUMMARY: The Office of Fossil Energy (FE) of the Department of Energy gives notice that during February 2001, it issued Orders granting, amending, and terminating authority to import and export natural gas, including LNG. These Orders are summarized in the attached appendix and may be found on the FE website at http://www.fe.doe.gov, or on the electronic bulletin board at (202) 586-7853. They are also available for inspection and copying in the Office of Natural Gas & Petroleum Import & Export Activities, Docket Room 3E-033, Forrestal Building, 1000 Independence Avenue, SW., Washington, DC 20585, (202) 586-9478. The docket room is open between the hours of 8 a.m. and 4:30 p.m., Monday through Friday, except Federal holidays.

Issued in Washington, DC, on March 8, 2001.
Clifford P. Tomaszewski,
Manager, Natural Gas Regulation, Office of Natural Gas & Petroleum Import & Export Activities, Office of Fossil Energy.

Appendix—Orders Granting Import/Export Authorizations
[DOE/FE Authority]
Order No. | Date issued | Importer/exporter FE Docket No. | Import volume | Export volume | Comments
1575-A | 02-16-01 | Shell NA LNG, Inc. (Formerly Coral LNG, Inc.) 00-16-LNG |  |  | Name change to blanket authority.
901-A | 02-20-01 | Wisconsin Electric 93-145-NG |  |  | Vacation of long-term import authority.
1666 | 02-20-01 | Powerex Corp. 01-04-NG | 14 Bcf |  | Import and export up to a combined total from and to Canada over a two-year term beginning on March 1, 2001, and extending through February 28, 2003.
1667 | 02-20-01 | Petro-Canada Hydrocarbons Inc. 01-03-NG | 300 Bcf |  | Import from Canada over a two-year term beginning on March 4, 2001, and extending through March 3, 2003.
1668 | 02-21-01 | CanWest Gas Supply U.S.A., Inc. 01-05-NG | 400 Bcf |  | Import and export up to a combined total from and to Canada over a two-year term beginning March 1, 2001, and extending through February 28, 2003.
1669 | 02-22-01 | The Mead Corporation 01-06-NG | 60 Bcf |  | Import from Canada over two-year term beginning on March 10, 2001, and extending through March 9, 2003.
1670 | 02-26-01 | Stampeder Energy (U.S.) Inc. 01-07-NG | 100 Bcf 10 BCF |  | Import and export up to a combined total from and to Canada and Mexico, and to import LNG from any country over a two-year term beginning on March 1, 2001, and extending through February 28, 2003.

[FR Doc. 01-6571 Filed 3-15-01; 8:45 am]

BILLING CODE 6450-01-P